DEPARTMENT OF COMMERCE

International Trade Administration

[A-489-837]

Certain Quartz Surface Products From the Republic of Turkey: Final Determination of Sales at Less Than Fair Value and Final Negative Determination of Critical Circumstances

AGENCY: Enforcement and Compliance, International Trade Administration, Department of Commerce.

SUMMARY: The Department of Commerce (Commerce) determines that certain quartz surface products (quartz surface products) from the Republic of Turkey (Turkey), are being or are likely to be, sold in the United States at less than fair value (LTFV) during the period of investigation (POI) April 1, 2018 through March 31, 2019.

DATES: Applicable May 1, 2020.

FOR FURTHER INFORMATION CONTACT: Laurel LaCivita or Kyle Clahane, AD/CVD Operations, Office III, Enforcement and Compliance, International Trade Administration, U.S. Department of Commerce, 1401 Constitution Avenue NW, Washington, DC 20230; telephone: (202) 482-4243 or (202) 482-5449, respectively.

SUPPLEMENTARY INFORMATION:

Background

On December 13, 2019, Commerce published the Preliminary Determination in this investigation.¹ A summary of the events that occurred since Commerce published the Preliminary Determination, as well as a full discussion of the issues raised by parties for this final determination, may be found in the Issues and Decision Memorandum, which is hereby adopted by this notice.² A list of the issues raised in this memorandum is attached to this notice as Appendix II.

¹ See Certain Quartz Surface Products from the Republic of Turkey: Preliminary Affirmative Determination of Sales at Less Than Fair Value, Preliminary Negative Determination of Critical Circumstances, Postponement of Final Determination, and Extension of Provisional Measures, 84 FR 68111 (December 13, 2019) (Preliminary Determination) and accompanying Preliminary Decision Memorandum.

² See Memorandum, “Issues and Decision Memorandum for the Final Affirmative Determination in the Antidumping Duty Investigation of Certain Quartz Surface Products from the Republic of Turkey,” dated concurrently with, and hereby adopted by, this notice (Issues and Decision Memorandum).

The Issues and Decision Memorandum is a public document and is available electronically via Enforcement and Compliance's Antidumping and Countervailing Duty Centralized Electronic Service System (ACCESS). ACCESS is available to registered users at https://access.trade.gov. In addition, a complete version of the Issues and Decision Memorandum can be accessed at http://enforcement.trade.gov/frn/index.html. The signed and electronic versions of the Issues and Decision Memorandum are identical in content.

Period of Investigation

The POI is April 1, 2018 through March 31, 2019.

Scope of the Investigation

The products covered by this investigation are quartz surface products from Turkey. For a full description of the scope of this investigation, see the “Scope of the Investigation” in Appendix I of this notice.

Scope Comments

On December 4, 2019, we issued a Preliminary Scope Memorandum.³ We received no scope case briefs from interested parties. Therefore, Commerce has made no changes to the scope of this investigation since the Preliminary Determination.

³ See Memorandum, “Certain Quartz Surface Products from India and Turkey: Preliminary Scope Decision Memorandum,” dated December 4, 2019.

Analysis of Comments Received

All issues raised in the case briefs and rebuttal briefs submitted by interested parties in this proceeding are discussed in the Issues and Decision Memorandum. A list of the issues raised by parties and responded to by Commerce in the Issues and Decision Memorandum is attached at Appendix II.

Verification

As provided in section 782(i) of the Tariff Act of 1930, as amended (the Act), Commerce verified the sales and cost data reported by Belenco dis Tikaret A.Ş. (Belenco), and Ermaş Madencilik Turizm Sanayi Ve Ticaret Anonim Şirketi (Ermaş) for use in our final determination. We used standard verification procedures, including an examination of relevant accounting and production records, and original source documents provided by the respondents.

Changes Since the Preliminary Determination

Based on our analysis of the comments received and our findings at verification, we made certain changes to the margin calculations for Belenco and Ermaş since the Preliminary Determination. For a discussion of these changes, see the Issues and Decision Memorandum.

Final Negative Determination of Critical Circumstances

Commerce preliminarily determined that critical circumstances do not exist for mandatory respondents, Belenco, Ermaş, or with respect to all other producers/exporters. No parties submitted comments regarding our negative preliminary critical circumstances determination and the factual basis for the preliminary negative finding remains unchanged for this final determination. Therefore, in accordance with sections 733(e)(1) and 735(a)(3) of the Act and 19 CFR 351.206, Commerce finds that critical circumstances do not exist for Belenco, Ermaş, or all other producers/exporters. For a full description of the methodology and results of Commerce's critical circumstances analysis, see the Issues and Decision Memorandum.

All-Others Rate

Section 735(c)(5)(A) of the Act provides that the estimated weighted-average dumping margin for all other producers and exporters not individually investigated shall be equal to the weighted average of the estimated weighted-average dumping margins established for individually investigated exporters and producers, excluding any margins that are zero or de minimis or any margins determined entirely under section 776 of the Act. Belenco is the only respondent for which Commerce calculated an estimated weighted-average dumping margin that is not zero, de minimis, or based entirely on facts otherwise available. Therefore, for purposes of determining the all-others rate, and pursuant to section 735(c)(5)(A) of the Act, we are using the estimated weighted-average dumping margin calculated for Belenco, as referenced in the “Final Determination” section.

Final Determination

The estimated weighted-average dumping margins are as follows:

Exporter/producer | Weighted- average margins (percent) | Cash deposit rate (adjusted for subsidy offset(s)) (percent)
Belenco dis Tikaret A.Ş.; and Peker Yüzey Tasarımları Sanayi ve Ticaret A.Ş | 5.17 | 5.13
Ermaş Madencilik Turizm Sanayi Ve Ticaret Anonim Şirketi | 0.00 | Not Applicable
All Others | 5.17 | 5.13

Consistent with section 735(a)(4) of the Act, based on the zero rate for Ermaş, Commerce determines that Ermaş has not sold merchandise which it produced and exported at LTFV.

Disclosure

We intend to disclose to interested parties the calculations and analysis performed in this final determination within five days of any public announcement or, if there is no public announcement, within five days of the date of the publication of this notice in accordance with 19 CFR 351.224(b).

Continuation of Suspension of Liquidation

In accordance with section 735(c)(1)(B) of the Act, we will instruct U.S. Customs and Border Protection (CBP) to continue the suspension of liquidation of all appropriate entries of quartz surface products from Turkey, as described in Appendix I of this notice, which were entered, or withdrawn from warehouse, for consumption on or after December 13, 2019, the date of publication of the Preliminary Determination of this investigation in the Federal Register. Further, Commerce will instruct CBP to require a cash deposit equal to the estimated amount by which the normal value exceeds the U.S. price as shown above. Because the estimated weighted-average dumping margin for Ermaş is zero, entries of shipments of subject merchandise both produced and exported by Ermaş will not be subject to suspension of liquidation or cash deposit requirements. In such situations, Commerce applies the exclusion to the provisional measures to the producer/exporter combination that was examined in the investigation. Accordingly, Commerce is directing CBP to not suspend merchandise produced and exported by Ermaş. However, entries of subject merchandise in any other producer/exporter combination, e.g., merchandise produced by a third party and exported by Ermaş, or produced by Ermaş and exported by a third party, are subject to the cash deposit requirements at the all-others rate.

To determine the cash deposit rate, Commerce normally adjusts estimated the weighted-average dumping margin by the amount of export subsidies countervailed in a companion countervailing duty (CVD) proceeding, when CVD provisional measures are in effect. In this case, we have made an affirmative determination for countervailable export subsidies for certain respondents, and, thus, we have offset the estimated weighted-average dumping margin by the appropriate CVD rate. Any such adjusted rates may be found in the table above. However, suspension of liquidation for provisional measures in the companion CVD case has been discontinued; therefore, we are not instructing CBP to collect cash deposits based upon the adjusted estimated weighted-average dumping margin for those subsidies at this time.

Furthermore, other than for entries of subject merchandise produced and exported by Ermaş, pursuant to section 735(c)(1)(B)(ii) of the Act and 19 CFR 351.210(d), Commerce will instruct CBP to require a cash deposit for such entries of merchandise equal to the estimated weighted-average dumping margin or the estimated all-others rate, as follows: (1) The cash deposit rate for the respondents listed above will be equal to the respondent-specific estimated weighted-average dumping margin determined in this final determination; (2) if the exporter is not a respondent identified above but the producer is, then the cash deposit rate will be equal to the respondent-specific estimated weighted-average dumping margin established for that producer of the subject merchandise; and (3) the cash deposit rate for all other producers and exporters will be equal to the all others estimated weighted-average dumping margin. These suspension of liquidation instructions will remain in effect until further notice.

International Trade Commission Notification

In accordance with section 735(d) of the Act, we will notify the International Trade Commission (ITC) of the final affirmative determination of sales at LTFV. Because the final determination in this proceeding is affirmative, in accordance with section 735(b)(2) of the Act, the ITC will make its final determination as to whether the domestic industry in the United States is materially injured, or threatened with material injury, by reason of imports, or sales (or the likelihood of sales) for importation of quartz surface products from Turkey no later than 45 days after our final determination. If the ITC determines that material injury or threat of material injury does not exist, the proceeding will be terminated, and all cash deposits will be refunded. If the ITC determines that material injury or threat of material injury does exist, Commerce will issue an antidumping duty order directing CBP to assess, upon further instruction by Commerce, antidumping duties on all imports of the subject merchandise, other than those produced and exported by Ermaş (because its rate is zero), entered, or withdrawn from warehouse, for consumption on or after the effective date of the suspension of liquidation.

Notification Regarding Administrative Protective Orders

This notice serves as the only reminder to parties subject to an administrative protective order (APO) of their responsibility concerning the disposition of proprietary information disclosed under APO in accordance with 19 CFR 351.305(a)(3). Timely notification of the return or destruction of APO materials or conversion to judicial protective order is hereby requested. Failure to comply with the regulations and the terms of an APO is a violation subject to sanction.

Notification to Interested Parties

We are issuing and publishing this determination and notice in accordance with sections 735(d) and 777(i) of the Act and 19 CFR 351.210(c).

Dated: April 27, 2020.
Jeffrey I. Kessler,
Assistant Secretary for Enforcement and Compliance.

Appendix I—Scope of the Investigation

The merchandise covered by the investigation is certain quartz surface products. Quartz surface products consist of slabs and other surfaces created from a mixture of materials that includes predominately silica (e.g., quartz, quartz powder, cristobalite, glass powder) as well as a resin binder (e.g., an unsaturated polyester). The incorporation of other materials, including, but not limited to, pigments, cement, or other additives does not remove the merchandise from the scope of the investigation. However, the scope of the investigation only includes products where the silica content is greater than any other single material, by actual weight. Quartz surface products are typically sold as rectangular slabs with a total surface area of approximately 45 to 60 square feet and a nominal thickness of one, two, or three centimeters. However, the scope of the investigation includes surface products of all other sizes, thicknesses, and shapes. In addition to slabs, the scope of the investigation includes, but is not limited to, other surfaces such as countertops, backsplashes, vanity tops, bar tops, work tops, tabletops, flooring, wall facing, shower surrounds, fire place surrounds, mantels, and tiles. Certain quartz surface products are covered by the investigation whether polished or unpolished, cut or uncut, fabricated or not fabricated, cured or uncured, edged or not edged, finished or unfinished, thermoformed or not thermoformed, packaged or unpackaged, and regardless of the type of surface finish. In addition, quartz surface products are covered by the investigation whether or not they are imported attached to, or in conjunction with, non-subject merchandise such as sinks, sink bowls, vanities, cabinets, and furniture. If quartz surface products are imported attached to, or in conjunction with, such non-subject merchandise, only the quartz surface product is covered by the scope.

Subject merchandise includes material matching the above description that has been finished, packaged, or otherwise fabricated in a third country, including by cutting, polishing, curing, edging, thermoforming, attaching to, or packaging with another product, or any other finishing, packaging, or fabrication that would not otherwise remove the merchandise from the scope of the investigation if performed in the country of manufacture of the quartz surface products. The scope of the investigation does not cover quarried stone surface products, such as granite, marble, soapstone, or quartzite. Specifically excluded from the scope of the investigation are crushed glass surface products. Crushed glass surface products must meet each of the following criteria to qualify for this exclusion: (1) The crushed glass content is greater than any other single material, by actual weight; (2) there are pieces of crushed glass visible across the surface of the product; (3) at least some of the individual pieces of crushed glass that are visible across the surface are larger than 1 centimeter wide as measured at their widest cross-section (Glass Pieces); and (4) the distance between any single Glass Piece and the closest separate Glass Piece does not exceed three inches.

The products subject to the scope are currently classified in the Harmonized Tariff Schedule of the United States (HTSUS) under the following subheading: 6810.99.0010. Subject merchandise may also enter under subheadings 6810.11.0010, 6810.11.0070, 6810.19.1200, 6810.19.1400, 6810.19.5000, 6810.91.0000, 6810.99.0080, 6815.99.4070, 2506.10.0010, 2506.10.0050, 2506.20.0010, 2506.20.0080, and 7016.90.1050. The HTSUS subheadings set forth above are provided for convenience and U.S. Customs purposes only. The written description of the scope is dispositive.

Appendix II—List of Topics Discussed in the Issues and Decision Memorandum

I. Summary

II. Background

III. Scope Comments

IV. Scope of the Investigation

V. Final Negative Determination of Critical Circumstances

VI. Changes Since the Preliminary Determination

VII. Discussion of the Issues

Comment 1: Industry Support for the Petition

Comment 2: Application of Adverse Facts Available (AFA) to Belenco

Comment 3: Whether Belenco Attempted to Change Reported Cost Information at Verification Without Alerting Commerce to the Change

Comment 4: Affiliation Between Belenco and its Home Market Customer, SRA Dış Ticaret (SRA)

Comment 5: Belenco's Discounts and Rebates in the U.S. and Home Markets

Comment 6: Inclusion of Product Grade as a Control Number (CONNUM) Characteristic for Belenco

Comment 7: Belenco's Proof of Payment for Home Market Sales

Comment 8: Belenco's Shipment Date and Payment Date Methodology for U.S. Sales

Comment 9: Programming Errors with Respect to Home Market Advertising Expense (ADVERTH) and Certain Duplicated Surrogate Costs for Belenco

Comment 10: Whether Commerce Must Address Ermaş's Missing Information or Apply AFA

Comment 11: Differential Pricing Analysis for Ermaş

Comment 12: The Inclusion of Sample Sales for Little or No Compensation in the Determination of Normal Value for Ermaş

Comment 13: Erma's Cost of Production for Sample Slabs Sold in the Home Market

Comment 14: The Applicable Interest Rate in Ermaş's Credit Adjustment

Comment 15: Other Adjustments to Ermaş's Reported Costs

VIII. Recommendation

[FR Doc. 2020-09328 Filed 4-30-20; 8:45 am]

BILLING CODE 3510-DS-P